SMALL BUSINESS ADMINISTRATION

[Disaster Declaration #12895 and #12896]

Iowa Disaster Number IA-00033

AGENCY: U.S. Small Business Administration.

ACTION: Amendment 1.

SUMMARY: This is an amendment of the Presidential declaration of a major disaster for the State of Iowa (FEMA-1998-DR), dated 10/18/2011.

Incident: Flooding.

Incident Period: 05/25/2011 through 08/01/2011.

Effective Date: 12/19/2011.

Physical Loan Application Deadline Date: 01/03/2012.

EIDL Loan Application Deadline Date: 07/18/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Iowa, dated 10/18/2011 is hereby amended to extend the deadline for filing applications for physical damages as a result of this disaster to 01/03/2012.

All other information in the original declaration remains unchanged.

(Catalog of Federal Domestic Assistance Numbers 59002 and 59008)
James E. Rivera,
Associate Administrator or Disaster Assistance.

[FR Doc. 2011-32948 Filed 12-22-11; 8:45 am]

BILLING CODE 8025-01-P